DEPARTMENT OF ENERGY

National Energy Technology Laboratory; Notice of Availability of a Funding Opportunity Announcement

AGENCY: National Energy Technology Laboratory, Department of Energy (DOE).

ACTION: Notice of availability of a Funding Opportunity Announcement.

SUMMARY: Notice is hereby given of the intent to issue Funding Opportunity Announcement No. DE-PS26-04NT42066 entitled “Epidemiology and Toxicology of Primary and Secondary Particulate Matter Emissions from Coal-Fired Power Plants.” The DOE/NETL is seeking applications to conduct research that will provide greater insight into the human health effects that may result from inhaling primary or secondary fine particulate matter (PM2.5) from coal-fired electric power generating facilities.

DATES: The funding opportunity announcement will be available on the “Industry Interactive Procurement System” (IIPS) webpage located at http://e-center.doe.gov on or about February 13, 2004. Applicants can obtain access to the funding opportunity announcement from the address above or through DOE/NETL's Web site at http://www.netl.doe.gov/business.

ADDRESSES: Questions and comments regarding the content of the announcement should be submitted through the “Submit Question” feature of IIPS at http://e-center.doe.gov. Locate the announcement on IIPS and then click on the “Submit Question” button. You will receive an electronic notification that your question has been answered. Responses to questions may be viewed through the “View Questions” feature. If no questions have been answered, a statement to that effect will appear. You should periodically check “View Questions” for new questions and answers.

FOR FURTHER INFORMATION CONTACT: Larry D. Gillham, MS 921-107, U.S. Department of Energy, National Energy Technology Laboratory, P.O. Box 10940, 626 Cochrans Mill Road, Pittsburgh, PA 15236-0940, E-mail Address: Gillham@NETL.DOE.GOV, Telephone Number: 412-386-5817.

SUPPLEMENTARY INFORMATION: Through this solicitation, NETL seeks applications in the following two (2) separate (i.e., stand alone) Areas of Interest:

(1) Design and Feasibility Assessment of a Retrospective Epidemiology Study of Fine Particulate Matter (PM2.5) and its Components in Metropolitan Pittsburgh, PA.

(2) Toxicological Assessment of Coal Plant PM Emissions Under Realistic Exposure Scenarios.

Applicants must select and target only one (1) Area of Interest per application. DOE anticipates the award of one cost-sharing cooperative agreement for Area of Interest 1 and approximately 2 to 5 cost-sharing cooperative agreements under Area of Interest. 2. Approximately $4.8 to $7.5 million of DOE funding is expected to be available for new awards under this announcement. A minimum of 20% cost share will be required for each award made under this announcement. Once released, the funding opportunity announcement will be available for downloading from the IIPS Internet page. At this Internet site you will also be able to register with IIPS, enabling you to submit an application. If you need technical assistance in registering or for any other IIPS function, call the IIPS Help Desk at (800) 683-0751 or e-mail the Help Desk personnel at IIPS_HelpDesk@e-center.doe.gov. The funding opportunity announcement will only be made available in IIPS, no hard (paper) copies of the funding opportunity announcement and related documents will be made available. Telephone requests, written requests, e-mail requests, or facsimile requests for a copy of the funding opportunity announcement will not be accepted and/or honored. Applications must be prepared and submitted in accordance with the instructions and forms contained in the announcement. The actual funding opportunity announcement document will allow for requests for explanation and/or interpretation.

Issued in Pittsburgh, PA, on February 4, 2004.
Dale A. Siciliano,
Director, Acquisition and Assistance Division.

[FR Doc. 04-3430 Filed 2-17-04; 8:45 am]

BILLING CODE 6450-01-P